ENVIRONMENTAL PROTECTION AGENCY

40 CFR Parts 72 and 75

[FRL-7259-9]

RIN 2060-AJ43

Revisions to the Definitions and the Continuous Emission Monitoring Provisions of the Acid Rain Program and the NOX Budget Trading Program; Correction

AGENCY: Environmental Protection Agency.

ACTION: Correcting amendments.

SUMMARY: This document contains corrections to the final regulations (FRL-7207-4), which were published in the Federal Register of Wednesday, June 12, 2002 (67 FR 40394). The regulations relate to Revisions to the Definitions and the Continuous Emission Monitoring Provisions of the Acid Rain Program and the NOX Budget Trading Program. The corrections are necessary to correct certain typographical errors and other minor issues.

DATES: Effective on August 16, 2002.

FOR FURTHER INFORMATION CONTACT: Gabrielle Stevens, Clean Air Markets Division (6204N), U.S. Environmental Protection Agency, 1200 Pennsylvania Avenue, NW., Washington, DC 20460, telephone number (202) 564-2681 or the Acid Rain Hotline at (202) 564-9620.

SUPPLEMENTARY INFORMATION:

Background

On June 12, 2002, EPA published final revisions to various provisions in 40 CFR parts 72 and 75 (67 FR 40394). Based on a review of the final published package, EPA has identified certain technical errors in those revisions that are corrected through this notice.

Need for Correction

As published, the final revisions to particular provisions in 40 CFR part 75 contain errors or omissions that may prove to be misleading and need to be clarified. The reason for these changes are as follows:

1. The appendices to 40 CFR part 60 provisions that contain test methods and specifications referenced in part 75 were reformatted, with significant section renumbering, on October 17, 2000 (65 FR 61743). In the June 13, 2001 proposed revisions to Part 75, EPA proposed to remove a requirement to use only the versions of certain test methods in appendices to 40 CFR part 60 that were effective as of 1995, 1996 or 1997, i.e. the revisions would remove the restriction on the use of the most current, reformatted version of these Part 60 provisions (see 66 FR 31995-96, June 13, 2001). The June 12, 2002 final rule promulgated the revisions as proposed. However, the final revisions failed to make necessary conforming changes to the part 60 cross references that appear in part 75. The corrections in this notice update the part 60 cross references in part 75 to be consistent with the part 60 revisions. These corrections affect §§ 72.2 and 75.22, Appendix A, sections 1.1, 1.2, 6.5.6, 6.5.6.2, and 6.5.6.3, and Appendix E, section 2.1.2.1.

2. In § 75.16(e)(1), this notice corrects an omission in the amendatory language to add the word “rate” after “heat input.” This correction is consistent with the proposed rule changes and changes to other subparagraphs in § 75.16(e).

3. In § 75.19(c)(1)(iv)(H), EPA revised the introductory text to clarify that the provisions apply only to units with “add-on” controls or dry-low NOX technology. EPA had intended to repeat the words “add-on” in subparagraph (H)(3) for consistency and clarity, and adds those words as part of this correction notice.

4. In § 75.19(c)(3)(ii)(G), there was a mistake in the amendatory language which suggested that the entire paragraph was being amended when in fact the reproduced text for that paragraph made clear that only a new sentence was being added. This correction notice reproduces the full section with the new sentence added at the end of the previously existing text. This correction also is consistent with the proposed rule revisions for this paragraph.

5. In § 75.19(c)(3)(ii)(H), a phrase used in various places in § 75.19 was mistakenly worded, and is corrected in this notice.

6. In § 75.21(a)(7), the amendatory language specifies that certain text is to be added after certain words in the paragraph, but those words appear twice in the paragraph. To clarify the amendatory language, this correction reproduces the applicable sentence in its entirety.

7. In § 75.33(c)(7), this notice corrects a typographical error that occurred (a regulatory cross reference and the concluding period were left off the end of the paragraph).

8. In § 75.71, EPA had intended to revise the section title, consistent with the proposed rule revisions, but the amendatory language did not specify a change in the title to the section, and thus the title published in the June 12, 2002 Federal Register was not modified as intended (and as shown in the proposed rule revisions). This notice specifies the changes to the section title.

9. In Appendix B, section 2.3.2, paragraphs (d) and (f), EPA added language to account for units that are based on operating levels rather than load levels. However, amendatory language was dropped inadvertently that would have added the words “(or operating level)” after each occurrence of the words “load level” in Appendix B, section 2.3.2, paragraphs (d) and (f). The words “load level” do appear in the current text of these paragraphs, so this correction adds the applicable parenthetical phrase. This correction also is consistent with the proposed rule changes to these paragraphs.

10. In Appendix D, section 2.1.6.4, paragraph (a)(1), the revisions added a new second sentence but the amendatory language mistakenly failed to direct that the punctuation at the end of the existing text in the paragraph be changed from a semicolon to a period. This correction fixes that grammatical error.

11. In Appendix D, section 2.3.3.2, third sentence, this notice corrects an omission (the words “or default SO2 emission rate” should be inserted as applicable to the use of Equation D-5).

12. In Appendix D, the preamble to the final revisions indicates that compliance with certain provisions is not required until July 1, 2003 (see 67 FR 40417). However, the rule text discussed in the final preamble was mistakenly omitted. This notice corrects that error by adding an asterisk after “Gas Total Sulfur Content” in the first column of Table D-6, and adding the following footnote to the Table: “*Required no later than July 1, 2003.”

13. In Appendix F, section 2.3, this notice corrects a typographical error (the label for Equation F-3 was mistakenly omitted). This correction is consistent with the proposed rule changes.

List of Subjects

40 CFR Part 72

Environmental protection, Acid rain, Administrative practice and procedure, Air pollution control, Continuous emission monitoring, Electric utilities, Nitrogen oxides, NOX Budget Trading Program, Reporting and recordkeeping requirements, Sulfur oxides.

40 CFR Part 75

Environmental protection, Acid rain, Administrative practice and procedure, Air pollution control, Carbon dioxide, Continuous emission monitoring (CEM), Electric generating units (EGUs), Electric utilities, Nitrogen oxides, Non-electric generating units (Non-EGUs), Non-load based units, NOX Budget Trading Program, Reporting and recordkeeping requirements, Sulfur oxides.

Dated: August 8, 2002.
Robert Brenner,
Acting Assistant Administrator, Office of Air and Radiation.

For the reasons set out in the preamble, title 40, chapter I of the Code of Federal Regulations is amended as follows:

PART 72—PERMITS REGULATION

1. The authority citation for part 72 continues to read as follows:

Authority: 42 U.S.C. 7601 and 7651, et seq.

§ 72.2 [Corrected]

2. In § 72.2, definition of “Equivalent diameter”, revise the words “equation in paragraph 2.1” to read “Equation 1-1 in section 12.2”.

PART 75—CONTINUOUS EMISSION MONITORING

3. The authority citation for Part 75 continues to read as follows:

Authority: 42 U.S.C. 7601, 7651k, and 7651k note.

§ 75.16 [Corrected]

4. In § 75.16, paragraph (e)(1), insert the word “rate” after all but the last occurrence of the phrase “heat input”.

5. Section 75.19 is corrected by:

a. In paragraph (c)(1)(iv)(H)(3), adding the word “add-on” after the words “other types of”;

b. Revising paragraph (c)(3)(ii)(G); and

c. In paragraph (c)(3)(ii)(H), in the first sentence, removing the phrase “in an identical group of units” and adding, in its place, “in a group of identical units”. The corrections read as follows:

§ 75.19 Optional SO2, NOX, and CO2 emissions calculation for low mass emissions (LME) units.

* * * * *

(c) * * *

(3) * * *

(ii) * * *

(G) The year-to-date cumulative heat input (mmBtu) for all fuels shall be the sum of all quarterly total heat input (HIqtr-total) values for all calendar quarters in the year to date. For a unit subject to the provisions of subpart H of this part, which is not required to report emission data on a year-round basis and elects to report only during the ozone season, the cumulative ozone season heat input shall be the sum of the quarterly heat input values for the second and third calendar quarters of the year.

* * * * *

6. Section 75.21 is corrected by revising the first sentence of paragraph (a)(7) to read as follows:

§ 75.21 Quality assurance and quality control requirements.

(a) * * *

(7) If the designated representative certifies that a particular unit with an SO2 monitoring system combusts primarily fuel(s) that are very low sulfur fuel(s) (as defined in § 72.2 of this chapter) and combusts higher sulfur fuel(s) only for infrequent, non-routine operations (e.g., only as emergency backup fuel(s) or for short-term testing), the SO2 monitoring system shall be exempted from the RATA requirements of appendices A and B to this part in any calendar year that the unit combusts the higher sulfur fuel(s) for no more than 480 hours. * * *

* * * * *

§ 75.22 [Corrected]

7. In § 75.22, paragraph (a)(4), remove the phrases “section 2”, “section 3”, “section 1.2”, and “sections 2 and 3” and add, in their place, respectively, “section 8.1”, “section 8.2”, “section 2.2”, and “sections 8.1 and 8.2”.

§ 75.33 [Corrected]

8. In § 75.33, paragraph (c)(7), in the last sentence, add the words “§ 75.53” to the end of the sentence.

§ 75.71 [Corrected]

9. In § 75.71, remove the words “emission rate” from the section title.

Appendix A [Corrected]

10. In section 1.1, remove the phrase “section 3.1” and add, in its place, “section 8.1.1”.

11. In section 1.2, remove the phrases “section 2.5 or 2.4” and “section 2.5” and add, in their place, respectively, “sections 11.5 or 11.4” and “section 11.5”.

12. In section 6.5.6, introductory paragraph and paragraphs (b)(2) and (b)(3), and in paragraph (a) of sections 6.5.6.2 and 6.5.6.3, remove each occurrence of the phrase “section 3.2” and add, in its place, “section 8.1.3”.

Appendix B [Corrected]

13. In section 2.3.2, paragraphs (d) and (f), add the phrase “(or operating level)” after each occurrence of the phrase “load level”.

Appendix D [Corrected]

14. In section 2.1.6.4, paragraph (a)(1), remove the phrase “under § 75.6);” and add, in its place, “under § 75.6).”

15. In section 2.3.3.2, in the third sentence remove the phrase “content, in” and add, in its place, “content or default SO2 emission rate in”.

16. In section 2.4.1, Table D-6, remove the phrase “Gas Total Sulfur Content” and add, in its place, “Gas Total Sulfur Content*” and add, as a footnote to the table, “*Required no later than July 1, 2003.”

Appendix E [Corrected]

17. In section 2.1.2.1, remove the phrase “section 5.1” and add, in its place, “section 8.3.1”.

Appendix F [Corrected]

18. In section 2.3, add “(Eq. F-3)” as a descriptive label next to Equation F-3.

[FR Doc. 02-20742 Filed 8-15-02; 8:45 am]

BILLING CODE 6560-50-P